DEPARTMENT OF THE TREASURY

Office of Foreign Assets Control

Identification of Entities and Vessels Pursuant to the Iranian Transactions and Sanctions Regulations and Executive Order 13599

AGENCY: Office of Foreign Assets Control, Treasury.

ACTION: Notice.

SUMMARY: The Treasury Department's Office of Foreign Assets Control (“OFAC”) is publishing the names of one hundred and ten (110) entities and vessels identified as the Government of Iran, Iranian financial institutions, or property or interest in property of the Government of Iran under the Iranian Transactions and Sanctions Regulations (the “ITSR”), 31 CFR part 560, and Executive Order 13599, and is updating OFAC's list of Specially Designated Nationals and Blocked Persons to identify those entities and vessels.

DATES: The identification and updates made by the Director of OFAC of the entities and vessels identified in this notice, pursuant to the Iranian Transactions and Sanctions Regulations and Executive Order 13599, was effective on July 12, 2012.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On February 5, 2012, the President issued Executive Order 13599, “Blocking Property of the Government of Iran and Iranian Financial Institutions” (the “Order”). Section 1 (a) of the Order blocks, with certain exceptions, all property and interests in property of the Government of Iran, including the Central Bank of Iran, that are in the United States, that hereafter come within the United States, or that are or hereafter come within the possession or control of any United States person, including any foreign branch.

Section 1 (b) of the Order blocks, with certain exceptions, all property and interests in property of any Iranian financial institution, including the Central Bank of Iran, that are in the United States, that hereafter come within the United States, or that are or hereafter come within the possession or control of any United States person, including any foreign branch.

Section 1 (c) of the Order blocks, with certain exceptions, all property and interests in property that are in the United States, that hereafter come within the United States, or that are or hereafter come within the possession or control of any United States person, including any foreign branch, of the following persons: Any person determined by the Secretary of the Treasury, in consultation with the Secretary of State, to be owned or controlled by, or to have acted or purported to act for or on behalf of, directly or indirectly, any person whose property and interests in property are blocked pursuant to the Order.

Section 7 (d) of the Order defines the term “Government of Iran” to mean the Government of Iran, any political subdivision, agency, or instrumentality thereof, including the Central Bank of Iran, and any person owned or controlled by, or acting for or on behalf of, the Government of Iran.

Section 7 (f) of the Order defines the term “Iranian financial institution” to mean a financial institution organized under the laws of Iran or any jurisdiction within Iran (including foreign branches), any financial institution in Iran, any financial institution, wherever located, owned or controlled by the Government of Iran, and any financial institution, wherever located, owned or controlled by any of the foregoing.

On October 22, 2012, the Iranian Transactions Regulations, 31 CFR part 560 (the “ITR”), were renamed the Iranian Transactions and Sanctions Regulations (“ITSR”), amended, and reissued in its entirety. The ITR and the ITSR prohibit various transactions, including, among others, transactions with the Government of Iran. Under the ITR, the term Government of Iran was defined in section 560.304 of the ITR to include: (a) The state and the Government of Iran, as well as any political subdivision, agency, or instrumentality thereof; (b) Any entity owned or controlled directly or indirectly by the foregoing; (c) Any person to the extent that such person is, or has been, or to the extent that there is reasonable cause to believe that such person is, or has been, acting or purporting to act directly or indirectly on behalf of any of the foregoing; and (d) An person or entity designated by the Secretary of the Treasury as included within (a)-(c). The phrase entity owned or controlled by the Government of Iran was itself defined in section 560.313 of the ITR.

On July 12, 2012, the Director of OFAC, in consultation with the Secretary of State, identified, pursuant to one or more of the criteria set forth in the ITR and in subparagraphs (a) through (c) of Section 1 of the Order, one hundred and ten (110) entities and vessels as the Government of Iran, Iranian Financial Institutions, entities owned or controlled by the foregoing, or property or interest in property of the Government of Iran, and updated OFAC's list of Specially Designated Nationals and Blocked Persons to identify those entities and vessels.

The listing for these entities and vessels is as follows:

1. ANSAR BANK (a.k.a. ANSAR FINANCE AND CREDIT FUND; a.k.a. ANSAR FINANCIAL AND CREDIT INSTITUTE; a.k.a. BANK-E ANSAR; f.k.a. “ANSAR AL-MOJAHEDIN NO-INTEREST LOAN INSTITUTE”; f.k.a. “ANSAR INSTITUTE”; f.k.a. “ANSAR SAVING AND INTEREST FREE-LOANS FUND”), Building No. 539, North Pasdaran Street, Tehran 19575-497, Iran; North Pasdaran St., No. 539, Before Sahebgharanieh, corner of Narenjestan dahom, Tehran, Iran [NPWMD] [IFSR] [IRAN]

2. BANK-E SHAHR, Sepahod Gharani, Corner of Khosro St., No. 147, Tehran, Iran [IRAN]

3. CREDIT INSTITUTION FOR DEVELOPMENT, 53 Saanee, Jahan-e Koodak, Crossroads Africa St., Tehran, Iran [IRAN]

4. DEY BANK (a.k.a. BANK-E DEY), Bokharest St., 1st St., No. 13, Tehran, Iran [IRAN]

5. EGHTESAD NOVIN BANK (a.k.a. BANK-E EGHTESAD NOVIN; a.k.a. EN BANK PJSC), Vali Asr Street, Above Vanak Circle, across Niayesh, Esfandiari Blvd., No. 24, Tehran, Iran; SWIFT/BIC BEGN IR TH [IRAN].

6. FUTURE BANK B.S.C. (a.k.a. BANK-E AL-MOSTAGHBAL; a.k.a. FUTURE BANK), P.O. Box 785, City Centre Building, Government Avenue, Manama, Bahrain; Block 304, City Centre Building, Building 199, Government Avenue, Road 383, Manama, Bahrain; Free Trade Zone, Sanaati-e Kish, Vilay-e Ferdos 2, Corner of Klinik-e Khanevadeh, No ⅕ and ⅗, Kish, Iran; Business Registration Document # 54514-1 (Bahrain) expires 9 Jun 2009; Trade License No. 13388 (Bahrain); All branches worldwide [NPWMD] [IFSR] [IRAN]

7. HEKMAT IRANIAN BANK (a.k.a. BANK-E HEKMAT IRANIAN), Argentine Circle, beginning of Africa St., Corner of 37th St., (Dara Cul-de-sac), No.26, Tehran, Iran [IRAN]

8. IRAN ZAMIN BANK (a.k.a. BANK-E IRAN ZAMIN), Seyyed Jamal-oldin Asadabadi St., Corner of 68th St., No. 472, Tehran, Iran [IRAN]

9. ISLAMIC REGIONAL COOPERATION BANK (a.k.a. BANK-E TAAWON MANTAGHEEY-E ESLAMI; a.k.a. REGIONAL COOPERATION OF THE ISLAMIC BANK FOR DEVELOPMENT & INVESTMENT), Tohid Street, Before Tohid Circle, No. 33, Upper Level of Eghtesad-e Novin Bank, Tehran 1419913464, Iran; Building No. 59, District 929, Street No. 17, Arsat Al-Hindia, Al Masbah, Baghdad, Iraq; SWIFT/BIC RCDF IQ BA [IRAN]

10. JOINT IRAN-VENEZUELA BANK (a.k.a. BANK MOSHTAREK-E IRAN VENEZUELA), Ahmad Ghasir St. (Bokharest), Corner of 15th St., Tose Tower, No.44-46, Tehran 1013830711, Iran [IRAN]

11. KARAFARIN BANK (a.k.a. BANK-E KARAFARIN), Zafar St. No. 315, Between Vali Asr and Jordan, Tehran, Iran; SWIFT/BIC KBID IR TH [IRAN]

12. MEHR IRAN CREDIT UNION BANK (a.k.a. BANK-E GHARZOLHASANEH MEHR IRAN; a.k.a. GHARZOLHASANEH MEHR IRAN BANK), Taleghani St., No.204, Before the intersection of Mofateh, across from the former U.S. embassy, Tehran, Iran [IRAN]

13. PARSIAN BANK (a.k.a. BANK-E PARSIAN), Keshavarz Blvd., No. 65, Corner of Shahid Daemi St., P.O. Box 141553163, Tehran 1415983111, Iran; No. 4 Zarafshan St, Farahzadi Blvd., Shahrak-e Ghods, 1467793811, Tehran, Iran; SWIFT/BIC BKPA IR TH [IRAN].

14. PASARGAD BANK (a.k.a. BANK-E PASARGAD), Valiasr St., Mirdamad St., No. 430, Tehran, Iran; SWIFT/BIC BKBP IR TH [IRAN]

15. POST BANK OF IRAN (a.k.a. PBI; a.k.a. SHERKAT-E DOLATI-E POST BANK), 237 Motahari Avenue, Tehran 1587618118, Iran; Motahari Street, No. 237, Past Darya-e Noor, Tehran, Iran [NPWMD] [IFSR] [IRAN]

16. SAMAN BANK (a.k.a. BANK-E SAMAN), Vali Asr. St. No. 3, Tehran, Iran, Before Vey Park intersection, corner of Tarakesh Dooz St; SWIFT/BIC SABC IR TH [IRAN]

17. SARMAYEH BANK (a.k.a. BANK-E SARMAYEH), Sepahod Gharani No. 24, Corner of Arak St., Tehran, Iran [IRAN]

18. TAT BANK, Shahid Ahmad Ghasir (Bocharest), Shahid Ahmadian (15th) St., No. 1, Tehran, Iran; No. 1 Ahmadian Street, Bokharest Avenue, Tehran, Iran; SWIFT/BIC TATB IR TH [IRAN]

19. TOSEE TAAVON BANK (a.k.a. BANK-E TOSE'E TA'AVON; a.k.a. COOPERATIVE DEVELOPMENT BANK), Mirdamad Blvd., North East Corner of Mirdamad Bridge, No. 271, Tehran, Iran [IRAN]

20. TOURISM BANK (a.k.a. BANK-E GARDESHGARI), Vali Asr St., above Vey Park, Shahid Fiazi St., No. 51, first floor, Tehran, Iran [IRAN]

21. NOOR ENERGY (MALAYSIA) LTD., Labuan, Malaysia; Company Number LL08318 [IRAN].

22. PETRO SUISSE INTERTRADE COMPANY SA, 6 Avenue de la Tour-Haldimand, Pully 1009, Switzerland [IRAN].

23. PETRO ENERGY INTERTRADE COMPANY, Dubai, United Arab Emirates [IRAN].

24. HONG KONG INTERTRADE COMPANY, Hong Kong [IRAN].

25. DANESH SHIPPING COMPANY LIMITED, Diagoras House, 7th Floor, 16 Panteli Katelari Street, Nicosia 1097, Cyprus; Telephone (357)(22660766); Fax (357)(22668608) [IRAN] Linked To: NATIONAL IRANIAN TANKER COMPANY.

26. DAVAR SHIPPING CO LTD, Diagoras House, 7th Floor, 16 Panteli Katelari Street, Nicosia 1097, Cyprus; Telephone (357)(22660766); Fax (357)(22678777) [IRAN] Linked To: NATIONAL IRANIAN TANKER COMPANY.

27. HADI SHIPPING COMPANY LIMITED, Diagoras House, 7th Floor, 16 Panteli Katelari Street, Nicosia 1097, Cyprus; Telephone (357)(22660766); Fax (357)(22668608) [IRAN] Linked To: NATIONAL IRANIAN TANKER COMPANY.

28. HARAZ SHIPPING COMPANY LIMITED, Diagoras House, 7th Floor, 16 Panteli Katelari Street, Nicosia 1097, Cyprus; Telephone (357)(22660766); Fax (357)(22668608) [IRAN] Linked To: NATIONAL IRANIAN TANKER COMPANY.

29. HATEF SHIPPING COMPANY LIMITED, Diagoras House, 7th Floor, 16 Panteli Katelari Street, Nicosia 1097, Cyprus; Telephone (357)(22660766); Fax (357)(22668608) [IRAN] Linked To: NATIONAL IRANIAN TANKER COMPANY.

30. HIRMAND SHIPPING COMPANY LIMITED, Diagoras House, 7th Floor, 16 Panteli Katelari Street, Nicosia 1097, Cyprus; Telephone (357)(22660766); Fax (357)(22668608) [IRAN] Linked To: NATIONAL IRANIAN TANKER COMPANY.

31. HODA SHIPPING COMPANY LIMITED, Diagoras House, 7th Floor, 16 Panteli Katelari Street, Nicosia 1097, Cyprus; Telephone (357)(22660766); Fax (357)(22668608) [IRAN] Linked To: NATIONAL IRANIAN TANKER COMPANY.

32. HOMA SHIPPING COMPANY LIMITED, Diagoras House, 7th Floor, 16 Panteli Katelari Street, Nicosia 1097, Cyprus; Telephone (357)(22660766); Fax (357)(22668608) [IRAN] Linked To: NATIONAL IRANIAN TANKER COMPANY.

33. HONAR SHIPPING COMPANY LIMITED, Diagoras House, 7th Floor, 16 Panteli Katelari Street, Nicosia 1097, Cyprus; Telephone (357)(22660766); Fax (357)(22668608) [IRAN] Linked To: NATIONAL IRANIAN TANKER COMPANY.

34. TC SHIPPING COMPANY LIMITED, Diagoras House, 7th Floor, 16 Panteli Katelari Street, Nicosia 1097, Cyprus; Telephone (357)(22660766); Fax (357)(22668608) [IRAN] Linked To: NATIONAL IRANIAN TANKER COMPANY.

35. MEHRAN SHIPPING COMPANY LIMITED, Diagoras House, 7th Floor, 16 Panteli Katelari Street, Nicosia 1097, Cyprus; Telephone (357)(22660766); Fax (357)(22668608) [IRAN] Linked To: NATIONAL IRANIAN TANKER COMPANY.

36. MERSAD SHIPPING COMPANY LIMITED, Diagoras House, 7th Floor, 16 Panteli Katelari Street, Nicosia 1097, Cyprus; Telephone (357)(22660766); Fax (357)(22668608) [IRAN] Linked To: NATIONAL IRANIAN TANKER COMPANY.

37. SAMAN SHIPPING COMPANY LIMITED, Diagoras House, 7th Floor, 16 Panteli Katelari Street, Nicosia 1097, Cyprus; Telephone (357)(22660766); Fax (357)(22668608) [IRAN] Linked To: NATIONAL IRANIAN TANKER COMPANY.

38. ASAN SHIPPING ENTERPRISE LIMITED, 85 St. John Street, Valletta VLT 1165, Malta; Telephone (356)(21241817); Fax (356)(25990640) [IRAN] Linked To: NATIONAL IRANIAN TANKER COMPANY.

39. SARV SHIPPING COMPANY LIMITED, 198 Old Bakery Street, Valletta VLT 1455, Malta; Telephone (356)(21241232) [IRAN] Linked To: NATIONAL IRANIAN TANKER COMPANY.

40. SEPID SHIPPING COMPANY LIMITED, 198 Old Bakery Street, Valletta VLT 1455, Malta; Telephone (356)(21241232) [IRAN] Linked To: NATIONAL IRANIAN TANKER COMPANY.

41. SIMA SHIPPING COMPANY LIMITED, 198 Old Bakery Street, Valletta VLT 1455, Malta; Telephone (356)(21241232) [IRAN] Linked To: NATIONAL IRANIAN TANKER COMPANY.

42. SINA SHIPPING COMPANY LIMITED, 198 Old Bakery Street, Valletta VLT 1455, Malta; Telephone (356)(21241232) [IRAN] Linked To: NATIONAL IRANIAN TANKER COMPANY.

43. CASPIAN MARITIME LIMITED, Fortuna Court, Block B, 284 Archbishop Makarios II Avenue, Limassol 3105, Cyprus; Telephone (357)(25800000); Fax (357)(25588055) [IRAN] Linked To: NATIONAL IRANIAN TANKER COMPANY.

44. MINAB SHIPPING COMPANY LIMITED (f.k.a. MIGHAT SHIPPING COMPANY LIMITED), Diagoras House, 7th Floor, 16 Panteli Katelari Street, Nicosia 1097, Cyprus; Telephone (357)(22660766); Fax (357)(22668608) [IRAN] Linked To: NATIONAL IRANIAN TANKER COMPANY.

45. NATIONAL IRANIAN TANKER COMPANY (a.k.a. NITC), NITC Building, 67-88, Shahid Atefi Street, Africa Avenue, Tehran, Iran; Web site www.nitc.co.ir; Email Address info@nitc.co.ir; alt. Email Address administrator@nitc.co.ir; Telephone (98)(21)(66153220); Telephone (98)(21)(23803202); Telephone (98)(21)(23803303); Telephone (98)(21)(66153224); Telephone (98)(21)(23802230); Telephone (98)(9121115315); Telephone (98)(9128091642); Telephone (98)(9127389031); Fax (98)(21)(22224537); Fax (98)(21)(23803318); Fax (98)(21)(22013392); Fax (98)(21)(22058763) [IRAN].

46. NATIONAL IRANIAN TANKER COMPANY LLC (a.k.a. NATIONAL IRANIAN TANKER COMPANY LLC SHARJAH BRANCH; a.k.a. NITC SHARJAH), Al Wahda Street, Street No. 4, Sharjah, United Arab Emirates; P.O. Box 3267, Sharjah, United Arab Emirates; Web site http://nitcsharjah.com/index.html; Telephone +97165030600; Telephone + 97165749996; Telephone +971506262258; Fax +97165394666; Fax +97165746661 [IRAN] Linked To: NATIONAL IRANIAN TANKER COMPANY.

47. N.I.T.C. REPRESENTATIVE OFFICE (a.k.a. NATIONAL IRANIAN TANKER COMPANY), Droogdokweg 71, Rotterdam 3089 JN, Netherlands; Email Address nitcrdam@tiscali.net; Telephone +31 010-4951863; Telephone +31 10-4360037; Fax +31 10-4364096 [IRAN] Linked To: NATIONAL IRANIAN TANKER COMPANY.

48. ARTA SHIPPING ENTERPRISES LIMITED, Diagoras House, 7th Floor, 16 Panteli Katelari Street, Nicosia 1097, Cyprus; Telephone (357)(22660766); Fax (357)(22678777) [IRAN] Linked To: NATIONAL IRANIAN TANKER COMPANY.

49. ARASH SHIPPING ENTERPRISES LIMITED, Diagoras House, 7th Floor, 16 Panteli Katelari Street, Nicosia 1097, Cyprus; Telephone (357)(22660766); Fax (357)(22678777) [IRAN] Linked To: NATIONAL IRANIAN TANKER COMPANY.

50. PROTON PETROCHEMICALS SHIPPING LIMITED (a.k.a. PROTON SHIPPING CO; a.k.a. “PSC”), Diagoras House, 7th Floor, 16 Panteli Katelari Street, Nicosia 1097, Cyprus; Telephone (357)(22660766); Fax (357)(22668608) [IRAN] Linked To: NATIONAL IRANIAN TANKER COMPANY.

51. PARS PETROCHEMICAL SHIPPING COMPANY, 1st Floor, No. 19, Shenasa Street, Vali E Asr Avenue, Tehran, Iran; Web site www.parsshipping.com [IRAN] Linked To: NATIONAL IRANIAN TANKER COMPANY.

52. DENA TANKERS FZE, Free Zone, P.O. Box 5232, Fujairah, United Arab Emirates [IRAN] Linked To: NATIONAL IRANIAN TANKER COMPANY.

53. ABADEH (9HDQ9) Crude/Oil Products Tanker Malta flag; Vessel Registration Identification IMO 9187655; MMSI 256842000 (vessel) [IRAN] Linked To: NATIONAL IRANIAN TANKER COMPANY.

54. CASTOR (f.k.a. AMOL) (T2EM4) Crude/Oil Products Tanker Tuvalu flag; Former Vessel Flag Malta; Vessel Registration Identification IMO 9187667; MMSI 256843000 (vessel) [IRAN] Linked To: NATIONAL IRANIAN TANKER COMPANY.

55. NEPTUNE (f.k.a. ASTANEH) (T2ES4) Crude/Oil Products Tanker Tuvalu flag; Former Vessel Flag Malta; Vessel Registration Identification IMO 9187643; MMSI 572467210 (vessel) [IRAN] Linked To: NATIONAL IRANIAN TANKER COMPANY.

56. DAMAVAND (9HEG9) Crude Oil Tanker Malta flag; Vessel Registration Identification IMO 9218478; MMSI 256865000 (vessel) [IRAN] Linked To: NATIONAL IRANIAN TANKER COMPANY.

57. LEADERSHIP (f.k.a. DANESH) (5IM 592) Crude Oil Tanker Tanzania flag; Former Vessel Flag Cyprus; Vessel Registration Identification IMO 9356593; MMSI 677049200 (vessel) [IRAN] Linked To: NATIONAL IRANIAN TANKER COMPANY.

58. DARAB (9HEE9) Crude Oil Tanker Malta flag; Vessel Registration Identification IMO 9218492; MMSI 256862000 (vessel) [IRAN] Linked To: NATIONAL IRANIAN TANKER COMPANY.

59. COMPANION (f.k.a. DAVAR) (5IM 593) Crude Oil Tanker Tanzania flag; Former Vessel Flag Cyprus; Vessel Registration Identification IMO 9357717; MMSI 677049300 (vessel) [IRAN] Linked To: NATIONAL IRANIAN TANKER COMPANY.

60. DAYLAM (9HEU9) Crude Oil Tanker Malta flag; Vessel Registration Identification IMO 9218466; MMSI 256872000 (vessel) [IRAN] Linked To: NATIONAL IRANIAN TANKER COMPANY.

61. DELVAR (9HEF9) Crude Oil Tanker Malta flag; Vessel Registration Identification IMO 9218454; MMSI 256864000 (vessel) [IRAN] Linked To: NATIONAL IRANIAN TANKER COMPANY.

62. DENA (9HED9) Crude Oil Tanker Malta flag; Vessel Registration Identification IMO 9218480; MMSI 256861000 (vessel) [IRAN] Linked To: NATIONAL IRANIAN TANKER COMPANY.

63. SATEEN (f.k.a. FAEZ) (T2DM4) Chemical/Products Tanker Tuvalu flag; Former Vessel Flag Malta; Vessel Registration Identification IMO 9283760; MMSI 572438210 (vessel) [IRAN] Linked To: NATIONAL IRANIAN TANKER COMPANY.

64. PIONEER (f.k.a. HADI) (T2EJ4) Crude Oil Tanker Tuvalu flag; Former Vessel Flag Cyprus; Vessel Registration Identification IMO 9362073; MMSI 572459210 (vessel) [IRAN] Linked To: NATIONAL IRANIAN TANKER COMPANY.

65. LENA (f.k.a. HAMOON) (T2EQ4) Crude Oil Tanker Tuvalu flag; Former Vessel Flag Malta; Vessel Registration Identification IMO 9212929; MMSI 572465210 (vessel) [IRAN] Linked To: NATIONAL IRANIAN TANKER COMPANY.

66. FREEDOM (f.k.a. HARAZ) (5IM 597) Crude Oil Tanker Tanzania flag; Former Vessel Flag Cyprus; Vessel Registration Identification IMO 9357406; MMSI 677049700 (vessel) [IRAN] Linked To: NATIONAL IRANIAN TANKER COMPANY.

67. VALOR (f.k.a. HARSIN) (5IM600) Crude Oil Tanker Tanzania flag; Former Vessel Flag Malta; Vessel Registration Identification IMO 9212917; MMSI 677050000 (vessel) [IRAN] Linked To: NATIONAL IRANIAN TANKER COMPANY.

68. GLORY (f.k.a. HATEF) (T2EG4) Crude Oil Tanker Tuvalu flag; Former Vessel Flag Cyprus; Vessel Registration Identification IMO 9357183; MMSI 212256000 (vessel) [IRAN] Linked To: NATIONAL IRANIAN TANKER COMPANY.

69. LOYAL (f.k.a. HENGAM) (T2ER4) Crude Oil Tanker Tuvalu flag; Former Vessel Flag Malta; Vessel Registration Identification IMO 9212905; MMSI 256875000 (vessel) [IRAN] Linked To: NATIONAL IRANIAN TANKER COMPANY.

70. HONESTY (f.k.a. HIRMAND) (T2DZ4) Crude Oil Tanker Tuvalu flag; Former Vessel Flag Cyprus; Vessel Registration Identification IMO 9357391; MMSI 572450210 (vessel) [IRAN] Linked To: NATIONAL IRANIAN TANKER COMPANY.

71. HORMOZ (9HEK9) Crude Oil Tanker Malta flag; Vessel Registration Identification IMO 9212890; MMSI 256870000 (vessel) [IRAN] Linked To: NATIONAL IRANIAN TANKER COMPANY.

72. HUWAYZEH (9HEJ9) Crude Oil Tanker Malta flag; Vessel Registration Identification IMO 9212888; MMSI 256869000 (vessel) [IRAN] Linked To: NATIONAL IRANIAN TANKER COMPANY.

73. IMICO NEKA 455 (a.k.a. YARD NO. 455 IRAN MARINE) Shuttle Tanker Iran flag; Vessel Registration Identification IMO 9404546 (vessel) [IRAN] Linked To: NATIONAL IRANIAN TANKER COMPANY.

74. IMICO NEKA 456 (a.k.a. YARD NO. 456 IRAN MARINE) Shuttle Tanker Iran flag; Vessel Registration Identification IMO 9404558 (vessel) [IRAN] Linked To: NATIONAL IRANIAN TANKER COMPANY.

75. IMICO NEKA 457 (a.k.a. YARD NO. 457 IRAN MARINE) Shuttle Tanker Iran flag; Vessel Registration Identification IMO 9404560 (vessel) [IRAN] Linked To: NATIONAL IRANIAN TANKER COMPANY.

76. IRAN FAHIM Chemical/Products Tanker Iran flag; Vessel Registration Identification IMO 9286140 (vessel) [IRAN] Linked To: NATIONAL IRANIAN TANKER COMPANY.

77. IRAN FALAGH Chemical/Products Tanker Iran flag; Vessel Registration Identification IMO 9286152 (vessel) [IRAN] Linked To: NATIONAL IRANIAN TANKER COMPANY.

78. MARIVAN (EQKH) Tanker 640DWT 478GRT Iran flag; Vessel Registration Identification IMO 8517243; MMSI 422143000 (vessel) [IRAN] Linked To: NATIONAL IRANIAN TANKER COMPANY.

79. BRAWNY (f.k.a. NABI) (T2DS4) Crude Oil Tanker Tuvalu flag; Former Vessel Flag Malta; Vessel Registration Identification IMO 9079080; MMSI 572443210 (vessel) [IRAN] Linked To: NATIONAL IRANIAN TANKER COMPANY.

80. MOTION (f.k.a. NAJM) (T2DR4) Crude Oil Tanker Tuvalu flag; Former Vessel Flag Malta; Vessel Registration Identification IMO 9079092; MMSI 572442210 (vessel) [IRAN] Linked To: NATIONAL IRANIAN TANKER COMPANY.

81. TRUTH (f.k.a. NESA) (T2DP4) Crude Oil Tanker Tuvalu flag; Former Vessel Flag Malta; Vessel Registration Identification IMO 9079107; MMSI 572440210 (vessel) [IRAN] Linked To: NATIONAL IRANIAN TANKER COMPANY.

82. ELITE (f.k.a. NOAH) (T2DQ4) Crude Oil Tanker Tuvalu flag; Former Vessel Flag Malta; Vessel Registration Identification IMO 9079078; MMSI 572441210 (vessel) [IRAN] Linked To: NATIONAL IRANIAN TANKER COMPANY.

83. NOOR (9HES9) Crude Oil Tanker Malta flag; Vessel Registration Identification IMO 9079066; MMSI 256882000 (vessel) [IRAN] Linked To: NATIONAL IRANIAN TANKER COMPANY.

84. SAFE (a.k.a. YARD NO. 1220 SHANGHAI WAIGAOQIAO) Crude Oil Tanker Malta flag; Vessel Registration Identification IMO 9569205 (vessel) [IRAN] Linked To: NATIONAL IRANIAN TANKER COMPANY.

85. LANTANA (f.k.a. SANANDAJ) (5IM591) Crude Oil Tanker Tanzania flag; Former Vessel Flag Malta; Vessel Registration Identification IMO 9172040; MMSI 677049100 (vessel) [IRAN] Linked To: NATIONAL IRANIAN TANKER COMPANY.

86. SARDASHT (EQKG) Landing Craft 640DWT 478GRT Iran flag; Vessel Registration Identification IMO 8517231; MMSI 422142000 (vessel) [IRAN] Linked To: NATIONAL IRANIAN TANKER COMPANY.

87. SARV (9HNZ9) Crude Oil Tanker Malta flag; Vessel Registration Identification IMO 9357377; MMSI 249257000 (vessel) [IRAN] Linked To: NATIONAL IRANIAN TANKER COMPANY.

88. MAGNOLIA (f.k.a. SARVESTAN) (5IM590) Crude Oil Tanker Tanzania flag; Former Vessel Flag Malta; Vessel Registration Identification IMO 9172052; MMSI 677049000 (vessel) [IRAN] Linked To: NATIONAL IRANIAN TANKER COMPANY.

89. CAMELLIA (f.k.a. SAVEH) (5IM 594) Crude Oil Tanker Tanzania flag; Former Vessel Flag Malta; Vessel Registration Identification IMO 9171462; MMSI 677049400 (vessel) [IRAN] Linked To: NATIONAL IRANIAN TANKER COMPANY.

90. CLOVE (f.k.a. SEMNAN) (5IM 595) Crude Oil Tanker Tanzania flag; Former Vessel Flag Malta; Vessel Registration Identification IMO 9171450; MMSI 677049500 (vessel) [IRAN] Linked To: NATIONAL IRANIAN TANKER COMPANY.

91. GARDENIA (f.k.a. SEPID) (T2EF4) Crude Oil Tanker Tuvalu flag; Former Vessel Flag Malta; Vessel Registration Identification IMO 9356608; MMSI 572455210 (vessel) [IRAN] Linked To: NATIONAL IRANIAN TANKER COMPANY.

92. BLOSSOM (f.k.a. SIMA) (T2DY4) Crude Oil Tanker Tuvalu flag; Former Vessel Flag Malta; Vessel Registration Identification IMO 9357353; MMSI 572449210 (vessel) [IRAN] Linked To: NATIONAL IRANIAN TANKER COMPANY.

93. SINA (9HNY9) Crude Oil Tanker Malta flag; Vessel Registration Identification IMO 9357365; MMSI 249256000 (vessel) [IRAN] Linked To: NATIONAL IRANIAN TANKER COMPANY.

94. SMOOTH (a.k.a. YARD NO. 1225 SHANGHAI WAIGAOQIAO) Crude Oil Tanker Malta flag; Vessel Registration Identification IMO 9569657 (vessel) [IRAN] Linked To: NATIONAL IRANIAN TANKER COMPANY.

95. SONATA (a.k.a. YARD NO. 1222 SHANGHAI WAIGAOQIAO) Crude Oil Tanker Malta flag; Vessel Registration Identification IMO 9569633 (vessel) [IRAN] Linked To: NATIONAL IRANIAN TANKER COMPANY.

96. SONGBIRD (a.k.a. YARD NO. 1224 SHANGHAI WAIGAOQIAO) Crude Oil Tanker Malta flag; Vessel Registration Identification IMO 9569645 (vessel) [IRAN] Linked To: NATIONAL IRANIAN TANKER COMPANY.

97. SOUVENIR (a.k.a. YARD NO. 1221 SHANGHAI WAIGAOQIAO) Crude Oil Tanker Malta flag; Vessel Registration Identification IMO 9569619 (vessel) [IRAN] Linked To: NATIONAL IRANIAN TANKER COMPANY.

98. DAISY (f.k.a. SUSANGIRD) (5IM584) Crude Oil Tanker Tanzania flag; Former Vessel Flag Malta; Vessel Registration Identification IMO 9172038; MMSI 677048400 (vessel) [IRAN] Linked To: NATIONAL IRANIAN TANKER COMPANY.

99. TOLOU (EQOD) Crew/Supply Vessel 250DWT 178GRT Iran flag; Vessel Registration Identification IMO 8318178 (vessel) [IRAN] Linked To: NATIONAL IRANIAN TANKER COMPANY.

100. VALFAJR2 (EQOX) Tug 650DWT 419GRT Iran flag; Vessel Registration Identification IMO 8400103 (vessel) [IRAN] Linked To: NATIONAL IRANIAN TANKER COMPANY.

101. YAGHOUB (EQOE) Platform Supply Ship 950DWT Iran flag; Vessel Registration Identification IMO 8316168; MMSI 422150000 (vessel) [IRAN] Linked To: NATIONAL IRANIAN TANKER COMPANY.

102. YANGZHOU DAYANG DY905 (a.k.a. YARD NO. DY905 YANGZHOU D.) LPG Tanker Iran flag; Vessel Registration Identification IMO 9575424 (vessel) [IRAN] Linked To: NATIONAL IRANIAN TANKER COMPANY.

103. YOUSEF (EQOG) Offshore Tug/Supply Ship 584GRT Iran flag; Vessel Registration Identification IMO 8316106; MMSI 422144000 (vessel) [IRAN] Linked To: NATIONAL IRANIAN TANKER COMPANY.

104. ALPHA (f.k.a. ABADAN) (T2EU4) Crude/Oil Products Tanker Tuvalu flag; Former Vessel Flag Malta; Vessel Registration Identification IMO 9187629; MMSI 572469210 (vessel) [IRAN] Linked To: NATIONAL IRANIAN TANKER COMPANY.

105. ASTARA (9HDS9) Crude/Oil Products Tanker Malta flag; Vessel Registration Identification IMO 9187631; MMSI 256845000 (vessel) [IRAN] Linked To: NATIONAL IRANIAN TANKER COMPANY.

106. BANEH (EQKF) Landing Craft 640DWT 478GRT Iran flag; Vessel Registration Identification IMO 8508462; MMSI 422141000 (vessel) [IRAN] Linked To: NATIONAL IRANIAN TANKER COMPANY.

107. PRECIOUS (f.k.a. HODA) (T2EH4) Crude Oil Tanker Tuvalu flag; Former Vessel Flag Cyprus; Vessel Registration Identification IMO 9362059; MMSI 572458210 (vessel) [IRAN] Linked To: NATIONAL IRANIAN TANKER COMPANY.

108. COURAGE (f.k.a. HOMA) (5IM 596) Crude Oil Tanker Tanzania flag; Former Vessel Flag Cyprus; Vessel Registration Identification IMO 9357389; MMSI 677049600 (vessel) [IRAN] Linked To: NATIONAL IRANIAN TANKER COMPANY.

109. VICTORY (f.k.a. HONAR) (T2EA4) Crude Oil Tanker Tuvalu flag; Former Vessel Flag Cyprus; Vessel Registration Identification IMO 9362061; MMSI 209511000 (vessel) [IRAN] Linked To: NATIONAL IRANIAN TANKER COMPANY.

110. IRAN FAZEL (9BAC) Chemical/Products Tanker Iran flag; Vessel Registration Identification IMO 9283746; MMSI 422303000 (vessel) [IRAN] Linked To: NATIONAL IRANIAN TANKER COMPANY.

Dated: February 6, 2013.
Adam J. Szubin,
Director, Office of Foreign Assets Control.

[FR Doc. 2013-03833 Filed 2-19-13; 8:45 am]

BILLING CODE 4810-AL-P